DEPARTMENT OF HEALTH AND HUMAN SERVICES

Centers for Disease Control and Prevention

Meeting of the Healthcare Infection Control Practices Advisory Committee

AGENCY: Centers for Disease Control and Prevention (CDC), Department of Health and Human Services (HHS).

ACTION: Notice of meeting.

SUMMARY: In accordance with the Federal Advisory Committee Act, the Centers for Disease Control and Prevention announces the following meeting for the Healthcare Infection Control Practices Advisory Committee (HICPAC). This virtual meeting is open to the public.

DATES: The meeting will be held on November 14, 2024, from 9 a.m. to 5 p.m., EST, and November 15, 2024, 9 a.m. to 12 p.m., EST.

ADDRESSES: The meeting will be webcast live via the World Wide Web. The webcast link can be found on the HICPAC website. https://www.cdc.gov/hicpac/meeting.html

FOR FURTHER INFORMATION CONTACT: Sydnee Byrd, M.P.A., Program Analyst, HICPAC, Division of Healthcare Quality Promotion, NCEZID, CDC, 1600 Clifton Road NE, Mailstop H16-3, Atlanta, Georgia 30329-4027, Telephone: (404) 718-8039; Email: hicpac@cdc.gov.

SUPPLEMENTARY INFORMATION:

Purpose: The Committee is charged with providing advice and guidance to the Director, Division of Healthcare Quality Promotion (DHQP), the Director, National Center for Emerging and Zoonotic Infectious Diseases (NCEZID), the Director, CDC; and the Secretary, Department of Health and Human Services, regarding (1) the practice of healthcare infection prevention and control; (2) strategies for surveillance, prevention, and control of infections, antimicrobial resistance, and related events in settings where healthcare is provided; and (3) periodic updating of CDC guidelines and other policy statements regarding prevention of healthcare-associated infections and healthcare-related conditions.

Matters to be Considered: The agenda will include the following updates: The Division of Health Quality Promotion Updates; Isolation Precautions Guideline Workgroup; the NHSN Neonatal Pediatric Definitions Update and the Healthcare Personnel Guideline Workgroup. Agenda items are subject to change.

Public Participation

Oral Public Comment: This meeting will include time for members of the public to make an oral comment. Priority will be given to individuals who submit a request to make an oral public comment before the meeting according to the procedures below. All persons interested in making an oral public comment at the November 14-15, 2024, HICPAC meeting must submit a request between October 15, 2024, and October 25, 2024, at https://www.cdc.gov/hicpac/meeting.html no later than 5 p.m., EDT, October 25, 2024, according to the instructions provided. If the number of persons requesting to speak is greater than can be reasonably accommodated during the scheduled time, CDC will conduct a lottery to determine the speakers for the scheduled public comment session. CDC staff will notify individuals regarding their request to speak by email by November 1, 2024.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2024-23896 Filed 10-16-24; 8:45 am]

BILLING CODE 4163-18-P